DEPARTMENT OF HEALTH AND HUMAN SERVICES

Administration on Aging

Notice of Awards Consistent With Fiscal Year 2002 Appropriations Act Reports

AGENCY: Administration on Aging, HHS.

ACTION: Announcement of awards made by the Administration on Aging in Fiscal Year 2002 consistent with Fiscal Year 2002 Appropriations Act reports.

SUMMARY: The Administration on Aging announces that it made twenty-nine (29) awards in FY 2002 consistent with the terms of Senate Report 107-84 and House Report 107-116 that accompany the Consolidated Appropriations Act for FY 2002 (Pub. L. 107-116), as follows: Adult Day Care of Northern Shenandoah Valley (VA), $148,050, September 1, 2002, to August 31, 2003; Allegheny County Homestead Apartments LIFE Center (PA), $296,100, September 30, 2002, to September 29, 2003; Alzheimer's Family Day Center (VA), $246,750, August 1, 2002, to December 31, 2003; Area Agency on Aging of Southeast Arkansas Inc. (AR) $493,500, September 1, 2002, to January 31, 2004; Area Agency on Aging of Southwest Arkansas (AR), $227,997, September 1, 2002, to August 31, 2003; Charlotte-Mecklenburg Department of Social Services (NC), $927,973, September 30, 2002, to February 28, 2004; Civic Ventures (CA), $789,600, September 1, 2002, to January 31, 2004; Coalition of Wisconsin Aging Groups (WI), $134,232, September 1, 2002, to August 31, 2003; Comprehensive Housing Assistance, Inc. (MD), $987,000, August 1, 2002, to July 31, 2003; Council of Senior Centers and Services NYC (NY), $74,025, July 1, 2002, to June 30, 2003; County of Wayne (MI), $781,229, September 1, 2002, to September 2003; DuPage County Human Services Department (IL), $98,700, September 1, 2002, to January 31, 2004; Garrett County Area Agency on Aging (MD), $24,675, August 1, 2002, to July 31, 2003; Guadelupe Community Center (CA), $434,119, September 30, 2002, to September 29, 2003; Institute for Music and Neurologic Function (NY), $493,500, August 1, 2002, to July 31, 2003; INTEGRIS (OK), $98,700, September 30, 2002, to September 29, 2003; Iowa Department of Elder Affairs (IA), $1,480,500, September 1, 2002, to August 31, 2003; Iowa State University, (IA), $197,400, September 30, 2002, to September 29, 2003; Jewish Association on Aging, (PA), $197,400, August 1, 2002, to July 31, 2003; Jewish Federation of Great Philadelphia (PA), $196,300, August 1, 2002, to July 31, 2003; Jewish Federation of St. Louis (MO), $1,263,360; August 1, 2002, to July 31, 2003; La Crosse Area Hmong Mutual Assistance Association, Inc. (WI), $125,349, September 30, 2002, to September 29, 2003; Promoting the National Family Caregiver Support Program (VA), $99,750, February 1, 2002, to January 31, 2003; Senior Community Centers of San Diego (CA), $88,830; September 30, 2002, to September 29, 2003; Senior Specialists Agency on Aging of West Central Arkansas (AR), $449,085; September 1, 2002, to August 31, 2003; The Jewish Community Federation of Cleveland (OH), $987,000; August 1, 2002, to July 31, 2003; The Motion Picture and Television Fund (CA), $98,700; September 1, 2002, to August 31, 2003; Tri-County Community Action Program (NH), $49,350; September 30, 2002, to September 29, 2003; Westchester County Department of Senior Programs and Services (NY), $19,740, August 1, 2002, to July 31, 2003.

Dated: November 21, 2002.
Josefina G. Carbonell,
Assistant Secretary for Aging.

[FR Doc. 02-29957 Filed 11-25-02; 8:45 am]

BILLING CODE 4154-01-P